DEPARTMENT OF COMMERCE

National Oceanic and Atmospheric Administration

ENVIRONMENTAL PROTECTION AGENCY

Coastal Nonpoint Pollution Control Program: Proposed Findings Document, Environmental Assessment, and Finding of No Significant Impact

AGENCY: National Oceanic and Atmospheric Administration, U.S. Department of Commerce, and the U.S. Environmental Protection Agency.

ACTION: Notice of Availability of Proposed Findings Document, Environmental Assessment, and Finding of No Significant Impact on Approval of the Coastal Nonpoint Pollution Control Program for Indiana.

SUMMARY: Notice is hereby given of the availability of the Proposed Findings Document, Environmental Assessment, and Finding of No Significant Impact for Indiana's Coastal Nonpoint Pollution Control Program. Coastal states and territories are required to submit their coastal nonpoint programs to the National Oceanic and Atmospheric Administration (NOAA) and the U.S. Environmental Protection Agency (EPA) for approval. The Findings Document was prepared by NOAA and EPA to provide the rationale for the agencies' decision to approve the state coastal nonpoint pollution control program. Section 6217 of the Coastal Zone Act Reauthorization Amendments (CZARA), 16 U.S.C. 1455b, requires states and territories with coastal zone management programs that have received approval under section 306 of the Coastal Zone Management Act to develop and implement coastal nonpoint programs. The Environmental Assessment was prepared by NOAA, pursuant to the National Environmental Policy Act (NEPA), 42 U.S.C. sections 4321 et seq., to assess the environmental impacts associated with the approval of the coastal nonpoint pollution control program submitted to NOAA and EPA by Indiana.

NOAA and EPA have proposed to approve, with conditions, the coastal nonpoint program submitted by Indiana. The requirements of 40 CFR Parts 1500-1508 (Council on Environmental Quality (CEQ) regulations to implement the National Environmental Policy Act) apply to the preparation of these Environmental Assessments. Specifically, 40 CFR section 1506.6 requires agencies to provide public notice of the availability of environmental documents. This notice is part of NOAA's action to comply with this requirement.

Copies of the proposed Findings Document, Environmental Assessment, and Finding of No Significant Impact may be found on the NOAA Web site at http://coastalmanagement.noaa.gov/assessments/welcome.html or may be obtained upon request from: Allison Castellan, Coastal Programs Division (N/ORM3), Office of Ocean and Coastal Resource Management, NOS, NOAA, 1305 East-West Highway, Silver Spring, Maryland 20910, phone (301) 713-3155, extension 125, e-mail allison.castellan@noaa.gov.

DATES: Individuals or organizations wishing to submit comments on the proposed Findings or Environmental Assessment should do so by December 5, 2007.

ADDRESSES: Comments should be made to: John King, Chief, Coastal Programs Division (N/ORM3), Office of Ocean and Coastal Resource Management, NOS, NOAA, 1305 East-West Highway, Silver Spring, Maryland 20910, phone (301) 713-3155 extension 188, e-mail john.king@noaa.gov.

(Federal Domestic Assistance Catalog 11.419 Coastal Zone Management Program Administration).

John H. Dunnigan,
Assistant Administrator for Ocean Services and Coastal Zone Management, National Oceanic and Atmospheric Administration.
Benjamin H. Grumbles,
Assistant Administrator, Office of Water, Environmental Protection Agency.

[FR Doc. 07-5473 Filed 11-2-07; 8:45 am]

BILLING CODE 3510-08-M